ENVIRONMENTAL PROTECTION AGENCY

[ER-FRL-9024-9]

Environmental Impact Statements; Notice of Availability

Responsible Agency: Office of Federal Activities, General Information (202) 564-7146 or http://www2.epa.gov/nepa.

Weekly receipt of Environmental Impact Statements (EISs)

Filed 01/04/2016 through 01/08/2016

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20160000, Draft, BIA, CA,, Wilton Rancheria Fee-to-Trust and Casino Project, Comment Period Ends: 02/29/2016, Contact: John Rydzik 916-978-6051.

EIS No. 20160001, Final, FHWA, CO, I-70 East Project, Review Period Ends: 02/16/2016, Contact: Chris Horn, P.E. 720-963-3017.

EIS No. 20160002, Final, USACE, CT, Programmatic—Long Island Sound Dredged Material Management Plan, Review Period Ends: 02/16/2016, Contact: Meghan Quinn 978-318-8179.

EIS No. 20160003, Final, NOAA, FL, Red Snapper Allocation Amendment 28 to the Fishery Management Plan for the Reef Fish Resources of the Gulf of Mexico, Review Period Ends:02/16/2016, Contact: Roy E. Crabtree 727-824-5301.

EIS No. 20160004, Final Supplement, GSA, VA, Federal Bureau of Investigation Central Records Complex, Review Period Ends:02/16/2016, Contact: Courtenay Hoernemann 215-446-4710.

EIS No. 20160005, Draft, BR, NPS, AZ, Glen Canyon Dam Long-Term Experimental and Management Plan, Comment Period Ends: 04/07/2016, Contact: Beverley Heffernan 801-524-3712 The U.S. Department of the Interior's Bureau of Reclamation and the U.S. Department of the Interior's National Park Service are joint lead agencies for this project.

EIS No. 20160006, Final, USFS, ID, Johnson Bar Fire Salvage Project, Review Period Ends: 02/16/2016, Contact: Sheila Lehman 208-935-4256.

EIS No. 20160007, Draft, USFS, CA, Elk Late-Successional Reserve Enhancement Project, Comment Period Ends: 02/29/2016, Contact: Cindy Diaz 530-926-9647.

EIS No. 20160008, Draft, USFS, WY, Bear Lodge Project, Comment Period Ends: 02/29/2016, Contact: Jeanette Timm 307-283-1361.

EIS No. 20160009, Final Supplement, USFS, OR, Wallowa-Whitman National Forest Invasive Plants Treatment Project, Review Period Ends: 02/16/2016, Contact: Gene Yates 541-523-1290.

EIS No. 20160010, Final, FHWA, UT, 1800 North (SR-37) Project, Contact: Paul Ziman 801-955-3525 Under MAP-21 Section 1319, FHWA has issued a single FEIS and ROD. Therefore, the 30-day wait/review period under NEPA does not apply to this action.

Amended Notices

EIS No. 20150322, Draft Supplement, USFS, CO, Rulemaking for Colorado Roadless Areas, Comment Period Ends: 01/15/2016, Contact: Ken Tu 303-275-5156 Revision to FR Notice Published 11/20/2015; Extending the Comment Period from 01/04/2016 to 01/15/2016.

EIS No. 20150338, Draft, BLM, NM, Copper Flat Copper Mine, Comment Period Ends: 03/04/2016, Contact: Doug Haywood 575-525-4498 Revision to FR Notice Published12/04/2015; Extending Comment Period from 01/19/2016 to 03/04/2016.

Dated: January 12, 2016.
Dawn Roberts,
Management Analyst, NEPA Compliance Division, Office of Federal Activities.

[FR Doc. 2016-00732 Filed 1-14-16; 8:45 am]

BILLING CODE 6560-50-P